DEPARTMENT OF ENERGY

Federal Energy Regulatory Commission

[Docket Nos. ER00-1721-001 and ER00-1737-001]

Virginia Electric and Power Company; Notice of Filing

July 10, 2000.

Take notice that on June 30, 2000, Virginia Electric and Power Company, tendered for filing revised tariff sheets in compliance with the Commission's order issued May 31, 2000 in Virginia Electric and Power Company, 91 FERC ¶ 61,209 (2000). The Company requests that the Commission accept these compliance tariff sheets for filing and make them effective June 1, 2000, the date the Commission permitted the modified OATT and the modified market-based sales tariff to become effective.

Copies of the filing were served upon the office service list compiled by the Secretary is this proceeding.

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions and protests should be filed on or before July 21, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

David P. Boergers,
Secretary.

[FR Doc. 00-17818 Filed 7-13-00; 8:45 am]

BILLING CODE 6717-01-M